INTERNATIONAL TRADE COMMISSION

[Investigation Nos. 701-TA-512 and 731-TA-1248 (Second Review)]

Carbon and Certain Alloy Steel Wire Rod From China; Determinations

On the basis of the record ¹ developed in the subject five-year reviews, the United States International Trade Commission (“Commission”) determines, pursuant to the Tariff Act of 1930 (“the Act”), that revocation of the countervailing and antidumping duty orders on carbon and certain alloy steel wire rod from China would be likely to lead to continuation or recurrence of material injury to an industry in the United States within a reasonably foreseeable time.

¹ The record is defined in § 207.2(f) of the Commission's Rules of Practice and Procedure (19 CFR 207.2(f)).

Background

The Commission instituted these reviews on May 1, 2025 (90 FR 18704) and determined on August 4, 2025, that it would conduct expedited reviews (90 FR 45958, September 24, 2025).

The Commission made these determinations pursuant to section 751(c) of the Act (19 U.S.C. 1675(c)). It completed and filed its determinations in these reviews on December 22, 2025. The views of the Commission are contained in USITC Publication 5692 (December 2025), entitled Carbon and Certain Alloy Steel Wire Rod from China: Investigation Nos. 701-TA-512 and 731-TA-1248 (Second Review).

By order of the Commission.
Issued: December 22, 2025.
Lisa Barton,
Secretary to the Commission.

[FR Doc. 2025-23913 Filed 12-23-25; 8:45 am]

BILLING CODE 7020-02-P